COMMODITY FUTURES TRADING COMMISSION

Sunshine Act Meetings

AGENCY HOLDING THE MEETING: Commodity Futures Trading Commission.

TIME AND DATE: 10:00 a.m., Friday, July 19, 2013.

PLACE: 1155 21st St. NW., Washington, DC, 9th Floor Commission Conference Room.

STATUS: Closed.

MATTERS TO BE CONSIDERED: Surveillance, Examinations, and Enforcement Matters. In the event that the time, date, or place of this meeting changes, an announcement of the change, along with the new time, date, or place of the meeting will be posted on the Commission's Web site at http://www.cftc.gov.

CONTACT PERSON FOR MORE INFORMATION: Melissa D. Jurgens, 202-418-5516.

Natise Stowe,
Executive Assistant.

[FR Doc. 2013-15196 Filed 6-20-13; 4:15 pm]

BILLING CODE 6351-01-P